DEPARTMENT OF COMMERCE

National Oceanic and Atmospheric Administration

[Docket No. 030602141-6032-35; I.D. 022706A]

Announcement of Funding Opportunity for the California Bay Watershed Education and Training (B-WET) Program, Adult and Community Watershed Education in the Monterey Bay

AGENCY: National Marine Sanctuary Program (NMSP), the National Ocean Service (NOS), National Oceanic and Atmospheric Administration (NOAA), Commerce.

ACTION: Notice; availability of funds.

SUMMARY: The California B-WET Program, Adult and Community Watershed Education in the Monterey Bay is accepting proposals that provide meaningful watershed education to adults and communities. The Monterey Bay is susceptible to impacts from urban, rural, and agricultural sources of pollution. Projects funded under this program will be outcome-based programs that educate citizens about their role in protecting water quality and demonstrate behavioral changes that improve water quality and promote environmental stewardship.

DATES: Proposals must be received by 5 p.m. Pacific standard time on April 13, 2006. The deadline for applying through Grants.gov is April 13, 2006.

ADDRESSES: Paper applications, a signed original and 2 copies (submission of eight additional hard copies is strongly encouraged to expedite the review process, but it is not required) may be submitted to Attn: Seaberry Nachbar, B-WET Program Manager, Monterey Bay National Marine Sanctuary Office, 299 Foam Street, Monterey, CA 93940. For electronic submissions, see Electronic Submission section under SUPPLEMENTARY INFORMATION.

FOR FURTHER INFORMATION CONTACT: B-WET Program Manager: Seaberry Nachbar, 831-647-4204, via Internet at Seaberry.Nachbar@noaa.gov.

SUPPLEMENTARY INFORMATION:

Summary Description

The California B-WET Program, Adult and Community Watershed Education, is a competitively based program that supports existing environmental education programs, fosters the growth of new programs, and encourages the development of partnerships among environmental education programs throughout the Monterey Bay watershed. Funded projects provide meaningful watershed education to adults and communities. The term “meaningful watershed education” is defined as outcome-based programs that educate citizens about their role in protecting water quality and demonstrate behavioral changes that improve water quality and promote environmental stewardship.

Funding Availability

This solicitation announces that approximately $100,000 may be available in FY 2006 in award amounts to be determined by the proposals and the available funds. The National Marine Sanctuary Program anticipates that approximately two to four grants will be awarded with these funds. The National Marine Sanctuary Program anticipates that typical project awards will range from $10,000 to $50,000.

Electronic Submission

It is strongly preferred that you submit your application through Grants.gov at the internet site: http://www.grants.gov. You may access, download, and submit an electronic grant application through Grants.gov. The full funding announcement is available via the Grants.gov web site: http://www.grants.gov. The announcement will also be available at the NOAA web site http://sanctuaries.noaa.gov/bwet or by contacting the program official outlined in this Federal Register notice. Applicants must comply with all requirements contained in the full funding opportunity announcement. NOAA strongly recommends that you do not wait until the application deadline date to begin the application process through Grants.gov.

Statutory Authority: 16 U.S.C. 1440, 15 U.S.C. 1540

CFDA: 11.429, Marine Sanctuary Program

Eligibility

Eligible applicants are institutions of higher education, nonprofit organizations, state or local government agencies, and Indian tribal governments. The Department of Commerce/ National Oceanic and Atmospheric Administration (DOC/NOAA) is strongly committed to broadening the participation of historically black colleges and universities, Hispanic serving institutions, tribal colleges and universities, and institutions that service undeserved areas.

Cost Sharing Requirements

No cost sharing is required under this program; however, the National Marine Sanctuary Program strongly encourages applicants to share as much of the costs of the award as possible. Funds from other Federal awards may not be considered matching funds. The nature of the contribution (cash versus in-kind) and the amount of matching funds will be taken into consideration in the review process.

Intergovernmental Review

Applications under this program are not subject to Executive Order 12372, “Intergovernmental Review of Federal Programs.”

Proposal Review and Selection Process for Projects

NOAA published its agency-wide solicitation entitled “Omnibus Notice Announcing the Availability of Grant Funds for Fiscal Year 2006” for projects for Fiscal Year 2006 in the Federal Register on June 30, 2005 (70 FR 37766). The evaluation and selection criteria and procedures for projects contained in that omnibus notice are applicable to this notice. Copies of this notice are available on the Internet at http://www.ofa.noaa.gov/%7Eamd/SOLINDEX.HTML. Further details on evaluation and selection criteria and procedures applicable to this notice can be found in the full funding opportunity announcement. Applicants must comply with all requirements contained in the full funding opportunity announcement.

National Environmental Policy Act (NEPA)

NOAA must analyze the potential environmental impacts, as required by the National Environmental Policy Act (NEPA), for applicant projects or proposals that are seeking NOAA Federal funding opportunities. Detailed information on NOAA compliance with NEPA can be found at the following NOAA NEPA website: http://www.nepa.noaa.gov/, including our NOAA Administrative Order 216-6 for NEPA, http://www.nepa.noaa.gov/NAO216--6--TOC.pdf, and the Council on Environmental Quality implementation regulations, http://ceq.eh.doe.gov/nepa/regs/ceq/toc_ceq.htm. Consequently, as part of an applicant's package and under the description of his or her program activities, an applicant is required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in the drafting of an environmental assessment, if NOAA determines an assessment is required. Applicants will also be required to cooperate with NOAA in identifying feasible measures to reduce or avoid any identified adverse environmental impact of their proposal. The failure to do so shall be grounds for not selecting an application. In some cases, if additional information is required after an application is selected, funds can be withheld by the Grants Officer under a special award condition requiring the recipient to submit additional environmental compliance information sufficient to enable NOAA to make an assessment on any impact that a project may have on the environment.

Pre-Award Notification Requirements for Grants and Cooperative Agreements

The Department of Commerce Pre-Award Notification Requirements for Grants and Cooperative Agreements contained in the Federal Register notice of December 30, 2004 (69 FR 78389) are applicable to this solicitation.

Limitation of Liability

Funding for the program listed in this notice is contingent upon the availability of Fiscal Year 2007 appropriations. In no event will NOAA be responsible for proposal preparation costs if this program fails to receive funding or is cancelled because of other agency priorities. Publication of this announcement does not oblige NOAA to award any specific project or to obligate any available funds.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and opportunity for public comment are not required by the Administrative Procedure Act or any other law for rules concerning public property, loans, grants, benefits, and contracts (5 U.S.C. 553(a)(2)). Because notice and opportunity for comments are not required pursuant to 5 U.S.C. 553 or any other law, the analytical requirements of the Regulatory Flexibility Act (5 U.S.C. 601 et seq.) are inapplicable. Therefore, a regulatory flexibility analysis has not been prepared.

Dated: March 7, 2006.
Mitchell A. Luxenberg,
Acting Chief Financial Officer, National Ocean Service,National Oceanic and Atmospheric Administration.

[FR Doc. E6-3635 Filed 3-13-06; 8:45 am]

BILLING CODE 3510-NK-S